DEPARTMENT OF TRANSPORTATION

Federal Railroad Administration

[Docket No. FRA-2024-0003]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before April 22, 2024.

ADDRESSES: Written comments and recommendations for the proposed ICR should be submitted on regulations.gov to the docket, Docket No. FRA-2024-0003. All comments received will be posted without change to the docket, including any personal information provided. Please refer to the assigned OMB control number (2130-0595) in any correspondence submitted. FRA will summarize comments received in a subsequent 30-day notice and include them in its information collection submission to OMB.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Safety and Health Requirements Related to Camp Cars.

OMB Control Number: 2130-0595.

Subparts C and E of 49 CFR part 228 address the construction of railroad-provided sleeping quarters (camp cars) and set certain safety and health requirements for such camp cars. Specifically, subpart E of part 228 prescribes minimum safety and health requirements for camp cars that a railroad provides as sleeping quarters to any of its train employees, signal employees, and dispatching service employees (covered-service employees) and individuals employed to maintain its right-of-way. Subpart E requires railroad-provided camp cars to be clean, safe, and sanitary, and be equipped with indoor toilets, potable water, and other features to protect the health of car occupants. Subpart C of part 228 prohibits a railroad from positioning a camp car intended for occupancy by individuals employed to maintain the railroad's right-of-way in the immediate vicinity of a switching or humping yard that handles railcars containing hazardous materials. Generally, the requirements of subparts C and E of part 228 are intended to provide covered-service employees an opportunity for rest free from the interruptions caused by noise under the control of the railroad.

The information collected under this rule is used by FRA to ensure railroads operating camp cars comply with all the requirements mandated in this regulation to protect the health and safety of camp car occupants. FRA estimates that there is one railroad that may choose to use camp cars in the three-year period covered by this ICR. That estimate is unchanged from the last ICR submitted to OMB in 2021. Since March 2020, no railroads have used camp cars. However, camp cars were used by one railroad before the COVID-19 pandemic led to discontinuation of their use and it is possible the same railroad or another railroad may decide to again use camp cars in the next three years. Therefore, in this 60-day notice, FRA makes no adjustments to the previously approved burden hours in the Office of Information and Regulatory Affairs (OIRA) inventory.¹

¹ Changes to the total cost equivalent in U.S. dollars, a category not included in the OIRA inventory, are due to updated statistics from the 2022 Surface Transportation Board (STB) Full Year Wage A&B data Series.

Type of Request: Extension without change of a currently approved collection.

Affected Public: Businesses.

Form(s): N/A.

Respondent Universe: 1 railroad.

Frequency of Submission: On occasion.

Reporting Burden
CFR section | Respondent universe | Total annual responses | Average time per response | Total annual burden hours | Wage rate | Total cost equivalent in U.S. dollars
|  | (A) | (B) | (C = A * B) |  | (D = C * wage rates) ²
228.323(b)(4)—Water hydrants—Records of inspection | 1 railroad | 740 inspection records | 2 minutes | 24.67 | 63.07 | $1,555.94
—Copy of records at central location | 1 railroad | 740 record copies | 10 seconds | 2.06 | 63.07 | 129.92
—(b)(6) Certification from State or local health authority | 1 railroad | 666 certificates | 1 hour | 666.00 | 85.93 | 57,229.38
—Certification by laboratory | 1 railroad | 74 certificates | 20 minutes | 24.67 | 85.93 | 2,119.89
—Certification copies at central location | 1 railroad | 740 certificate copies | 10 seconds | 2.06 | 63.07 | 129.92
—(c)(4) Storage and distribution system—Flushing and draining—Records | 1 railroad | 111 records | 30 minutes | 56.00 | 63.07 | 3,531.92
—(c)(6) Lab report copies | 1 railroad | 10 lab report copies | 2 minutes | 0.33 | 63.07 | 20.81
—(d) Signage (for non-potable water) | 1 railroad | 740 signs | 3 minutes | 30.83 | 63.07 | 1,944.45
228.331(d)—First aid and life safety—Modified emergency preparedness plan | 1 railroad | 740 modified plans | 15 minutes | 185.00 | 85.93 | 15,897.05
—Modified emergency preparedness plan—copies | 1 railroad | 1,560 plan copies | 3 seconds | 1.30 | 85.93 | 111.71
228.333—Remedial action—A good faith notice of needed repair | 1 car occupant/employee labor organization | 4 good faith notices | 15 minutes | 1.00 | 63.07 | 63.07
Total ³ | 1 railroad | 6,125 responses | N/A | 994 | N/A | 82,734

Total Estimated Annual Responses: 6,125.

² The dollar equivalent cost is derived from the 2022 STB Full Year Wage A&B data series using employee group 200: (Professional & Administrative) hourly wage rate of $49.10 and employee group 600 (Transportation (Train & Engine)) hourly wage rate of $36.04. The total burden wage rate (straight time plus 75%) used for group 200 is $85.93 ($49.10 × 1.75 = $85.93). The total burden wage rate used for group 600 is $63.07 ($36.04 × 1.75 = $63.07).

³ Totals may not add up due to rounding.

Total Estimated Annual Burden: 994.

Total Estimated Annual Burden Hour Dollar Cost Equivalent: $82,734.

FRA informs all interested parties that it may not conduct or sponsor, and a respondent is not required to respond to, a collection of information that does not display a currently valid OMB control number.

Authority: 44 U.S.C. 3501-3520.

Christopher S. Van Nostrand,
Acting Deputy Chief Counsel.

[FR Doc. 2024-03479 Filed 2-20-24; 8:45 am]

BILLING CODE 4910-06-P